EQUAL EMPLOYMENT OPPORTUNITY COMMISSION

Sunshine Act Meeting

Agency Holding the Meeting: Equal Employment Opportunity Commission.

Federal Register Citation of Previous Announcement: 71 FR 27250, Wednesday, May 10, 2006.

Previously Announced Time and Date of Meeting: Wednesday, May 17, 2006, 10 a.m. (Eastern Time).

Change in the Meeting: The meeting has been cancelled.

for Further Information Contact: Stephen Llewellyn, Acting Executive Officer on (202) 663-4070.

This notice issued May 16, 2006.
Stephen Llewellyn,
Acting Executive Officer, Executive Secretariat.

[FR Doc. 06-4697 Filed 5-16-06; 2:10 pm]

BILLING CODE 6570-06-M